DEPARTMENT OF COMMERCE

Foreign-Trade Zones Board

[Docket 30-2002]

Foreign-Trade Zone 61—San Juan, PR; Expansion of Facilities and Manufacturing Authority—Subzone 61F; IPR Pharmaceuticals, Inc. Plant (Pharmaceuticals), Guayama, PR

Correction

In notice document 02-20236 beginning on page 51820 in the issue of Friday, August 9, 2002, make the following correction:

On page 51821, in the second column, in the fourth line, “September 9, 2002” should read “October 8, 2002”.

[FR Doc. C2-20236 Filed 8-22-02; 8:45 am]

BILLING CODE 1505-01-D

FEDERAL EMERGENCY MANAGEMENT AGENCY

44 CFR Part 65

Changes in Flood Elevation Determinations

Correction

In rule document 02-19576 beginning on page 50362 in the issue of Friday, August 2, 2002, make the following corrections:

§ 65.4 [Corrected]

1. On page 50363, in § 65.4, in the table, in the second column, in the second entry, “Town of Cave Creek, (02-09-241XO” should read, “Town of Cave Creek, (02-09-241X)”.

2. On page 50364, in the same section, in the table, in the second column, in the fourth entry, “City of Scottsdale, )01-09-1199P)” should read, “City of Scottsdale, (01-09-1199P)”.

3. On page 50365, in the same section, in the table, in the second column, in the fourth entry, “City of Escondido, (01-09-8498X)”should read, “City of Escondido, (02-09-498X)”.

4. On page 50366, in the same section, in the table, in the second column, in the fourth entry, “City of Fort Collins, (01-08-045P)” should read, “City of Fort Collins, (01-08-349P)”.

[FR Doc. C2-19576 Filed 8-22-02; 8:45 am]

BILLING CODE 1505-01-D

DEPARTMENT OF TRANSPORTATION

Federal Aviation Adminstration

14 CFR Part 71

[Airspace Docket No. 02-ACE-9]

Amendment to Class E Airspace; Gordon, NE

Correction

In rule document 02-21138 beginning on page 53877 in the issue of August 20, 2002, make the following correction:

On page 53878, in the first column, in the sixth line from the bottom, “Comments” should read “Commenters”.

[FR Doc. C2-21138 Filed 8-22-02; 8:45 am]

BILLING CODE 1505-01-D